DEPARTMENT OF COMMERCE

National Oceanic and Atmospheric Administration

Proposed Information Collection; Comment Request; NMFS Implementation of International Trade Data System

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 5, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Christopher Rogers at (301) 427-8375 or christopher.rogers@noaa.gov.

SUPPLEMENTARY INFORMATION:

I. Abstract

Type of Review: Regular submission (revision and extension of a current information collection).

The Security and Accountability for Every Port Act of 2006 (SAFE Port Act, Pub. L. 109-347) requires all Federal agencies with a role in import admissibility decisions to collect information electronically through the International Trade Data System (ITDS). The Department of the Treasury has the U.S. Government lead on ITDS development and Federal agency integration. U.S. Customs and Border Protection (CBP) developed the Automated Commercial Environment (ACE) as an internet-based system for the collection and dissemination of information for ITDS. The Office of Management and Budget (OMB), through its e-government initiative, oversees Federal agency participation in ITDS, with a focus on reducing duplicate reporting across agencies and migrating paper-based reporting systems to electronic information collection.

Numerous Federal agencies are involved in the regulation of international trade and many of these agencies participate in the import, export, and transportation-related decision-making process. Agencies also use trade data to monitor and report on trade activity. NMFS is a partner government agency in the ITDS project because of its role in monitoring the trade of certain fishery products. Electronic collection of seafood trade data through a single portal has resulted in an overall reduction of the public reporting burden and the agency's data collection costs, has improved the timeliness and accuracy of admissibility decisions, and has increased the effectiveness of applicable trade restrictive measures.

NMFS is responsible for implementation of trade measures and monitoring programs for fishery products subject to the documentation requirements of Regional Fishery Management Organizations (RFMO) and/or documentation requirements under domestic laws. RFMOs are international fisheries organizations, established by treaties, to promote international cooperation to achieve effective and responsible marine stewardship and ensure sustainable fisheries management. The United States is a signatory to many RFMO treaties, and Congress has passed implementing legislation to carry out U.S. obligations under those treaties, including trade measures to support conservation. Trade measures and monitoring programs enable the United States to exclude products that do not meet the RFMO criteria for admissibility to U.S. markets.

Pursuant to domestic statutory authorities and/or multilateral agreements, NMFS has implemented a number of monitoring programs to collect information from the seafood industry regarding the origin of certain fishery products. The purpose of these programs is to determine the admissibility of the products in accordance with the specific criteria of the trade measure or documentation requirements in effect.

The three NMFS trade monitoring programs included in the OMB information collection approved under Control Number 0648-0732 are the Highly Migratory Species International Trade Program (HMS ITP) which regulates trade in specified commodities of tuna, swordfish, billfish, and shark fins; the Antarctic Marine Living Resources (AMLR) trade program which regulates trade in Antarctic and Patagonian toothfish and other fishery products caught in the area where the Convention on the Conservation of Antarctic Marine Living Resources (CCAMLR) applies; and the Tuna Tracking and Verification Program (TTVP), which regulates trade in frozen and/or processed tuna products (refer to 50 CFR 216.24(f)(2)(iii) for a complete list).

Separately, NMFS received approval from OMB for the Seafood Import Monitoring Program (SIMP) under Control Number 0648-0739. That program has been implemented under the authority of the Magnuson-Stevens Fishery Conservation and Management Act (MSA). Section 307(1)(Q) of the MSA prohibits the importation of fish or fish products that have been harvested in violation of a foreign law or regulation, or in contravention of a binding conservation measure of an RFMO to which the United States is a contracting party. Under SIMP, information on the harvest event must be submitted in ACE as part of the entry filing for designated fish products to allow NMFS to determine that the fish were lawfully acquired and are therefore admissible into U.S. commerce. In 2019, NMFS included shrimp and abalone entries in SIMP, and received OMB approval for the additional reporting burden for shrimp and abalone entries under a separate Control Number (0648-0776).

Generally, these trade monitoring programs are similar and require anyone who intends to import, export, and/or re-export regulated species to: Obtain a permit from NMFS; obtain documentation on the flag-nation authorization for the harvest from the foreign exporter; and submit this information to NMFS. Depending on the commodity, specific information may also be required. For example, the flag state of the harvesting vessel, the ocean area of catch, the fishing gear used, the harvesting vessel name, and details and authorizations related to harvest, landing, transshipment and export. In renewing collection 0648-0732, NMFS will also request that OMB merge all the trade monitoring programs under one collection, thereby incorporating the reporting burdens associated with collections 0648-0739 and 0648-0776 within the scope of 0648-0732.

II. Method of Collection

The initial requirement for U.S. entities trading in the reportable commodities is to apply for an International Fisheries Trade Permit (IFTP). To obtain the IFTP, U.S. importers, exporters, and re-exporters of seafood products covered under the TTVP, AMLR, and HMS ITP programs would be required to electronically submit their application and fee for the IFTP via the National Permits System available online at: https://fisheriespermits.noaa.gov/npspub/pub_cmn_login/index_live.jsp).

Currently, the TTVP, AMLR, HMS ITP and SIMP regulations require submission of specific information and documentation for trade monitoring. The IFTP holder, or his or her representative (e.g., customs broker), would need to electronically provide CBP via ACE with certain data sets (i.e., a subset of the information required to be kept as records under the TTVP, AMLR, HMS ITP or SIMP programs) and scanned images of documentation for each applicable trade transaction. NMFS has provided detailed information regarding submission of data sets and documentation in a compliance guide for industry which has been posted online at: (https://www.iuufishing.noaa.gov/Portals/33/SIMPComplianceGuide2018rev.pdf?ver=2018-12-11-172442-553).

The format for the data sets has been designated for each of the three programs and specified in the following documents that were jointly developed by NMFS and CBP and made available online to affected entry filers by CBP (http://www.cbp.gov/trade/ace/catair):

CBP and Trade Automated Interface Requirements—Appendix PGA

CBP and Trade Automated Interface Requirements—PGA Message Set

Automated Broker Interface (ABI) Requirements—Implementation Guide for NMFS

III. Data

OMB Control Numbers: 0648-0732; 0648-0739; 0648-0776.

Form Number(s): None.

Type of Review: Regular submission; revision and extension of a current information collection.

Affected Public: Business or other for-profit organizations; Federal government.

Estimated Number of Respondents: 1,800 per year.

Estimated Time per Response: 3 hours.

Estimated Total Annual Burden Hours: 365,000 hours.

Estimated Total Annual Cost to Public: $2,900,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-11639 Filed 6-4-19; 8:45 am]

BILLING CODE 3510-22-P